DEPARTMENT OF TRANSPORTATION

Federal Aviation Administration

14 CFR Part 39

[Docket No. FAA-2010-0277; Directorate Identifier 2009-NM-217-AD]

RIN 2120-AA64

Airworthiness Directives; The Boeing Company Model 767 Airplanes

AGENCY: Federal Aviation Administration (FAA), DOT.

ACTION: Supplemental notice of proposed rulemaking (NPRM); reopening of comment period.

SUMMARY: We are revising an earlier proposed airworthiness directive (AD) for all Model 767 airplanes. That NPRM proposed repetitive inspections to detect fatigue cracking in the wing skin, and corrective actions if necessary. That NPRM was prompted by reports of cracking in the upper wing skin at the fastener holes common to the inboard and outboard pitch load fittings of the front spar which could result in the loss of the strut-to-wing upper link load path and possible separation of a strut and engine from the airplane during flight. This action revises that NPRM by reducing compliance times. We are proposing this supplemental NPRM to correct the unsafe condition on these products. Since these actions impose an additional burden over that proposed in the NPRM, we are reopening the comment period to allow the public the chance to comment on these proposed changes.

DATES: We must receive comments on this supplemental NPRM by November 25, 2011.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue, SW., Renton, Washington 98057-3356; phone: 425-917-6577; fax: 425-917-6590; e-mail: berhane.alazar@faa.gov.

SUPPLEMENTARY INFORMATION:

Comments Invited

We invite you to send any written relevant data, views, or arguments about this proposed AD. Send your comments to an address listed under the ADDRESSES section. Include “Docket No. FAA-2010-0277; Directorate Identifier 2009-NM-217-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to Model 767-200, -300, -300F, and -400ER series airplanes. That NPRM was published in the Federal Register on March 29, 2010 (75 FR 15357). That NPRM proposed to require repetitive inspections to detect fatigue cracking in the upper wing skin at the fastener holes common to the inboard and outboard pitch load fittings of the front spar, and corrective actions if necessary.

Actions Since Previous NPRM (75 FR 15357, March 29, 2010) Was Issued

Since we issued the previous NPRM (75 FR 15357, March 29, 2010), one operator reported finding a fastener hole with significant crack sizes of 0.53 and 0.31 inch on either side of the hole on an airplane having accumulated 18,900 total flight cycles and 89,500 total flight hours at the time of the inspection. These cracks were found sooner than expected; therefore, certain initial inspection compliance times (grace periods) have been reduced.

Relevant Service Information

Boeing has issued Alert Service Bulletin 767-57A0117, Revision 1, dated March 2, 2011, to reduce certain initial inspection compliance times (grace periods) from 4,000 flight cycles or 12,000 flight hours, to 2,000 flight cycles or 6,000 flight hours (whichever occurs first), respectively. The procedures in Revision 1 of this service bulletin are essentially the same as those in Boeing Alert Service Bulletin 767-57A0117, Original Issue, dated October 1, 2009, which was referenced in the NPRM (75 FR 15357, March 29, 2010) as the appropriate source of service information for accomplishing the proposed requirements.

We have revised this supplemental NPRM to refer to Boeing Alert Service Bulletin 767-57A0117, Revision 1, dated March 2, 2011, given credit for Boeing Alert Service Bulletin 767-57A0117, Original Issue, dated October 1, 2009, and re-identified subsequent paragraphs.

Comments

We gave the public the opportunity to comment on the previous NPRM (75 FR 15357, March 29, 2010). The following presents the comments received on the NPRM and the FAA's response to each comment.

Request for Clarification of Inspection Locations

Continental Airlines requested that we clarify the locations on which the inspections are done because the Accomplishment Instructions of Boeing Alert Service Bulletin 767-57A0117, Original Issue, dated October 1, 2009, specify doing detailed and ultrasonic inspections of the upper wing skin surface, but also mention certain instructions that specify doing the inspections on the lower surface of the upper wing skin.

We agree that clarification is needed. The upper surface of the upper wing skin is the location for the inspection. Boeing Alert Service Bulletin 767-57A0117, Revision 1, dated March 2, 2011 (described previously), specifies that the inspections be done on the “upper wing skin surface.” To clarify the location of the inspections, we have changed the wording of that phrase in the Summary and paragraphs (e) and (g) of this supplemental NPRM to “upper surface of the upper wing skin.”

Request for Clarification of Certain Repair Conditions

All Nippon Airways (ANA) requested that we add the reference “Condition 2D” to paragraph (i) of the NPRM (75 FR 15357, March 29, 2010), which is reidentified as paragraph (h) of this supplemental NPRM, to clarify that only Condition 2D of Table 1, paragraph 1.E., “Compliance,” of Boeing Alert Service Bulletin 767-57A0117, Original Issue, dated October 1, 2009, requires contacting Boeing for appropriate action. ANA added that “Condition 2D” specifies to “contact Boeing for additional instructions and do the repair,” but paragraph (i) of the NPRM refers to contacting Boeing for appropriate action. The commenter requested clarification.

We agree to provide clarification. We disagree with adding a reference to Condition 2D in paragraph (h) of this supplemental NPRM. Condition 2D of the Accomplishment Instructions of Boeing Alert Service Bulletin 767-57A0117, Revision 1, dated March 2, 2011 (this revised service bulletin is referenced in this supplemental NPRM as the appropriate source of service information), is the only condition that requires contacting Boeing for additional instructions and doing the repair. However, we have revised the language in paragraph (h) of this supplemental NPRM to match the language in Boeing Alert Service Bulletin 767-57A0117, Revision 1, dated March 2, 2011.

Request for Clarification of Repair Limits of Figures 5 and 6 of Boeing Alert Service Bulletin 767-57A0117, Original Issue, Dated October 1, 2009

Boeing and ANA requested we clarify that any cracks found can be repaired using Figures 5 and 6 of Boeing Alert Service Bulletin 767-57A0117, Original Issue, dated October 1, 2009, provided such cracks are within the repair limits described in those figures. Boeing stated that while Figures 5 and 6 provide repairs for cracks removed up to a final hole diameter of 0.540 inch from the starting hole size of 0.375 inch, the NPRM (75 FR 15357, March 29, 2010) would require that all repairs be submitted for FAA approval. Boeing requested that we change paragraph (i) of the NPRM (paragraph (h) of this supplemental NPRM) to further limit the repair conditions that require FAA approval to include cracks that exceed the repair limits contained in Figures 5 and 6 of Boeing Alert Service Bulletin 767-57A-0117, Original Issue, dated October 1, 2009.

We disagree. Paragraph (h) of this supplemental NPRM does not require all cracks to be repaired in accordance with paragraph (j) of this supplemental NPRM. Only those cracks beyond the documented limits in Boeing Alert Service Bulletin 767-57A0117, Revision 1, dated March 2, 2011, for which that service bulletin states to “contact Boeing” are required to be repaired in accordance with paragraph (j) of this supplemental NPRM. Paragraph (h) of this supplemental NPRM refers to conditions specified in that service bulletin, which include the limitation noted by the commenter. No change has been made to this supplemental NPRM in this regard.

Request for Definition of Condition 2D of Boeing Alert Service Bulletin 767-57A0117, Original Issue, Dated October 1, 2009

Continental Airlines requested changing the definition of Condition 2D of Boeing Alert Service Bulletin 767-57A0117, Original Issue, dated October 1, 2009. Continental Airlines stated that the definition is, “Any crack found in one or more of the affected fastener hole locations that can not be removed with a final hole diameter of less than or equal to 0.540 inches.” Continental Airlines noted that the condition of “less than or equal to 0.540 inches” is already covered under Condition 2C and suggested changing the wording to “Any crack found in one or more of the affected fastener hole locations that can not be removed with a final hole diameter of 0.540 inches.”

We disagree with changing the definition of Condition 2D. Condition 2C specifies cracks that can be removed with a repaired hole diameter greater than 0.453 inch and less than or equal to 0.540 inch. Condition 2D specifies cracks that cannot be removed with a repaired hole diameter of less than or equal to 0.540 inch. No change has been made to this supplemental NPRM in this regard.

Request To Retain the Compliance Time Specified in Boeing Alert Service Bulletin 767-57A0117, Original Issue, Dated October 1, 2009

ANA requested that the compliance time specified in Boeing Alert Service Bulletin 767-57A0117, Original Issue, dated October 1, 2009, be retained as proposed in the NPRM (75 FR 15357, March 29, 2010) instead of reduced as specified in Boeing Alert Service Bulletin 767-57A0117, Revision 1, dated March 2, 2011. ANA stated that they changed their “C” check maintenance schedule, which aligns better with the compliance times specified in Boeing Alert Service Bulletin 767-57A0117, Original Issue, Dated October 1, 2009.

We do not agree with the commenter's request to extend the compliance times. The intent of this supplemental NPRM, as stated in the preamble section, “Actions Since Previous NPRM Was Issued,” is to reduce the initial proposed compliance times based on failures found on airplanes below the proposed compliance times. In developing an appropriate compliance time for this action, we considered the safety implications, parts availability, and normal maintenance schedules for the timely accomplishment of the inspection. In consideration of these items, as well as the reports of cracking, we have determined that the revised compliance times specified in Boeing Alert Service Bulletin 767-57A0117, Revision 1, dated March 2, 2011, will ensure an acceptable level of safety.

Since maintenance schedules vary widely among operators, we tried to accommodate most affected operators by allowing the inspections to be done during scheduled maintenance intervals. However, under the provisions of paragraph (j) of this supplemental NPRM, we will consider requests for approval of an extension of the compliance time if sufficient data are submitted to substantiate that the extension would provide an acceptable level of safety.

Request To Change Wording in Figure 5 of Boeing Alert Service Bulletin 767-57A0117, Original Issue, Dated October 1, 2009

Continental Airlines stated that the “More Data” column of Step 2, Figure 5, of Boeing Alert Service Bulletin 767-57A0117, Original Issue, dated October 1, 2009, references “Table 1 or Table 2 below.” Continental noted that there are no tables “below” on that particular page, but are on the following page.

We infer that the commenter is requesting that we revise this supplemental NPRM to clarify the location of the tables. We disagree. Although those tables are not physically “below” on the same page, those tables can be easily located and can still be considered “below” as they follow the discussion items. No change has been made to this supplemental NPRM in this regard.

Request for Clarification of Step 4, Figure 5, of Boeing Alert Service Bulletin 767-57A0117, Original Issue, Dated October 1, 2009

Continental Airlines requested clarification of the wording in the “More Data” column of Step 4, Figure 5, of Boeing Alert Service Bulletin 767-57A0117, Original Issue, dated October 1, 2009. The commenter stated that the reference to “SRM 51-40-09,” in the “More Data” section of this service bulletin is for aluminum structure. Continental believed the intent is to cold work the skin hole only for airplanes with titanium pitch load fittings. Continental requested that we clarify this definition.

We agree that the cold working was meant for the wing skin holes for airplanes having titanium pitch load fittings. However, we have determined that the titanium fitting maintains an adequate level of safety if the cold working process is carried out through the entire stack-up. The other option would be to cold work only the aluminum skin, but that would be cost prohibitive and impractical to remove the titanium fitting, cold work the aluminum skin, and re-install the titanium fitting on the airplane. No change has been made to the supplemental NPRM in this regard.

Request To Change Location of Appendix A Reference of Boeing Alert Service Bulletin 767-57A0117, Original Issue, Dated October 1, 2009

Continental Airlines stated that it may be beneficial to reference Appendix A in Figure 6 of Boeing Alert Service Bulletin 767-57A0117, Original Issue, dated October 1, 2009.

We partially agree. Although it could be beneficial to reference Appendix A in Figure 6, Appendix A already is referenced in paragraph 1.E., “Compliance,” of Boeing Alert Service Bulletin 767-57A0117, Revision 1, dated March 2, 2011 (this revised service bulletin is referenced in this supplemental NPRM). No change has been made to the supplemental NPRM in this regard.

FAA's Determination

We are proposing this supplemental NPRM because we evaluated all the relevant information and determined the unsafe condition described previously is likely to exist or develop in other products of these same type designs. Certain changes described above expand the scope of the original NPRM (75 FR 15357, March 29, 2010). As a result, we have determined that it is necessary to reopen the comment period to provide additional opportunity for the public to comment on this supplemental NPRM.

Proposed Requirements of the Supplemental NPRM

This supplemental NPRM would require accomplishing the actions specified in the service information described previously, except as discussed under “Differences Between the Supplemental NPRM and the Service Information.”

Differences Between the Supplemental NPRM and the Service Information

Boeing Alert Service Bulletin 767-57A0117, Revision 1, dated March 2, 2011, specifies to contact the manufacturer for instructions on how to repair certain conditions, but this proposed AD would require repairing those conditions in one of the following ways:

• Using a method that we approve; or

• Using data that meet the certification basis of the airplane, and that have been approved by the Boeing Commercial Airplanes Organization Designation Authorization that we have authorized to make those findings.

Costs of Compliance

We estimate that this proposed AD affects 417 airplanes of U.S. registry.

We estimate the following costs to comply with this proposed AD:

Estimated Costs
Action | Labor cost | Parts cost | Cost per product | Cost on U.S. operators
Inspection | 10 work-hours × $85 per hour = $850 per inspection cycle | $28,836 | $29,686 | $12,379,062

We estimate the following costs to do any necessary repairs that would be required based on the results of the proposed inspection. We have no way of determining the number of aircraft that might need these repairs:

On-Condition Costs
Action | Labor cost | Parts cost | Cost per product
Hole repair | 1 work-hour per hole × maximum 48 holes per airplane × $85 per hour = up to $4,080 per airplane | $0 | Up to $4,080.
Fastener replacement | 1 work-hour per hole × maximum 48 holes per airplane × $85 per hour = up to $4,080 per airplane | 0 | Up to $4,080.
Freeze plug repair | 1 work-hour per hole × maximum 48 holes per airplane × $85 per hour = up to $4,080 per airplane | 0 | Up to $4,080.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2010-0277; Directorate Identifier 2009-NM-217-AD.

(a) Comments Due Date

We must receive comments by November 25, 2011.

(b) Affected ADs

None

(c) Applicability

This AD applies to The Boeing Company Model 767-200, -300, -300F, and -400ER series airplanes; certificated in any category; as identified in Boeing Alert Service Bulletin 767-57A0117, Revision 1, dated March 2, 2011.

(d) Subject

Joint Aircraft System Component (JASC)/Air Transport Association (ATA) of America Code 57, Wings.

(e) Unsafe Condition

This AD was prompted by reports of cracking in the upper wing skin at the fastener holes common to the inboard and outboard front spar pitch load fittings. We are issuing this AD to detect and correct fatigue cracking in the upper surface of the upper wing skin at the fastener holes common to the inboard and outboard pitch load fittings of the front spar, which could result in the loss of the strut-to-wing upper link load path and possible separation of a strut and engine from the airplane during flight.

(f) Compliance

Comply with this AD within the compliance times specified, unless already done.

(g) Initial and Repetitive Inspection

Except as provided by paragraph (i) of this AD, at the applicable time specified in paragraph 1.E., “Compliance,” of Boeing Alert Service Bulletin 767-57A0117, Revision 1, dated March 2, 2011: Do detailed and ultrasonic inspections, or do an open-hole high-frequency eddy current inspection, to detect cracking in the upper surface of the upper wing skin at the fastener holes common to the inboard and outboard pitch load fittings of the front spar; and do all applicable corrective actions; in accordance with the Accomplishment Instructions of Boeing Alert Service Bulletin 767-57A0117, Revision 1, dated March 2, 2011, except as required by paragraph (h) of this AD. Do all applicable corrective actions before further flight. Repeat the applicable inspections thereafter at intervals not to exceed the applicable time specified in paragraph 1.E., “Compliance,” of Boeing Alert Service Bulletin 767-57A0117, Revision 1, dated March 2, 2011.

(h) Exceptions to the Service Bulletin

(1) If any cracking is found during any inspection required by this AD, and Boeing Alert Service Bulletin 767-57A0117, Revision 1, dated March 2, 2011, specifies to contact Boeing for additional instructions: Before further flight, repair the cracking using a method approved in accordance with the procedures specified in paragraph (j) of this AD.

(2) Where Boeing Alert Service Bulletin 767-57A0117, Revision 1, dated March 2, 2011, specifies a compliance time after the date on Boeing Alert Service Bulletin 767-57A0117, Original Issue, dated October 1, 2009, this AD requires compliance within the specified compliance time after the effective date of this AD.

(i) Credit for Actions Accomplished in Accordance With Previous Service Information

Actions done before the effective date of this AD in accordance with Boeing Alert Service Bulletin 767-57A0117, dated October 1, 2009, are acceptable for compliance with the corresponding requirements of paragraph (g) of this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(k) Related Information

(1) For more information about this AD, contact Berhane Alazar, Aerospace Engineer, Airframe Branch, ANM-120S, FAA, Seattle Aircraft Certification Office (ACO), 1601 Lind Avenue, SW., Renton, Washington 98057-3356; phone: 425-917-6577; fax: 425-917-6590; e-mail: berhane.alazar@faa.gov. Or, e-mail information to 9-ANM-Seattle-ACO-AMOC-Requests@faa.gov.

(2) For service information identified in this AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Issued in Renton, Washington, on September 28, 2011.
Ali Bahrami,
Manager, Transport Airplane Directorate, Aircraft Certification Service.

[FR Doc. 2011-26107 Filed 10-7-11; 8:45 am]

BILLING CODE 4910-13-P